Title 3—

The President

Proclamation 7491 of October 30, 2001

Veterans Day, 2001

By the President of the United States of America

A Proclamation

Two hundred and twenty-five years ago, the signers of the Declaration of Independence declared that “all Men are created equal, that they are endowed by their Creator with certain unalienable Rights, that among these are Life, Liberty, and the Pursuit of Happiness.”

Throughout the course of American history, courageous men and women have taken up arms to secure, defend, and maintain these core principles upon which our Nation's freedoms depend. On September 11, 2001, terrorists ruthlessly attacked our land and these freedoms. The terrorists' deluded attempt to assail our spirit failed, and our Nation's response reveals that the spirit of freedom is as strong as ever. Our troops are now fighting overseas to defeat terrorism, and, in that effort, they follow in the footsteps of the 48 million men and women who, since our Nation's founding, have stepped forward to defend our land.

Today, there are more than 25 million living veterans who served our Nation in times of peace and war. Many of them willingly entered harm's way to fight for our freedoms. These veterans have diverse religious beliefs and come from varying backgrounds and ethnicities. By their service, they kept America strong, and they have protected our way of life from tyranny's grip for over two centuries. At this moment, men and women of the Army, Navy, Air Force, Marines, and Coast Guard are serving around the world. They represent our resolute dedication to achieving a lasting peace out of the new challenges and threats of the 21st century.

On Veterans Day, let us pause to reflect on the sacrifices of all of those who have put on the uniform to serve in the United States military. Let us honor our veterans, who proved their heroism and love of country time and again, from Yorktown and Gettysburg to Iwo Jima and the Persian Gulf. They consistently defended our ideals across the globe; and they continue to inspire those who defend America today, half a world away. More than a million have died in service to America; and more than a million and a half have been wounded. Some sustained serious injuries in combat and now live with disabilities. Our Nation will always be grateful for the noble sacrifices made by these veterans. We can never adequately repay them. But we can honor and respect them for their service.

As we consider the sacrifices and efforts of our veterans, we must never forget that freedom comes at a cost. Therefore, I ask all schools to observe November 11 through November 17, 2001, as National Veterans Awareness Week, and to invite a veteran to speak at their school. This “Lessons in Liberty” initiative will serve to honor America's veterans, while reminding young people of the strong principles upon which our Nation is founded. Our veterans have much to share with our young people about liberty, patriotism, democracy, and independence. They are living examples of the timeless truth that freedom is not free. I call upon our veterans to serve our country in a different way, by teaching a new generation of young Americans the importance of the liberties they helped secure.

In respect and recognition of the contributions our service men and women have made to the cause of peace and freedom, the Congress has provided (5 U.S.C. 6103 (a)) that November 11 of each year shall be set aside as a legal public holiday to honor veterans.

NOW, THEREFORE, I, GEORGE W. BUSH, President of the United States of America, do hereby proclaim November 11, 2001, as Veterans Day and urge all Americans to observe November 11 through November 17, 2001, as National Veterans Awareness Week. I urge all Americans to recognize the valor and sacrifice of our veterans through appropriate public ceremonies and private prayers. I call upon Federal, State, and local officials to display the flag of the United States and to encourage and participate in patriotic activities in their communities. I invite civic and fraternal organizations, places of worship, schools, businesses, unions, and the media to support this national observance with suitable commemorative expressions and programs.

IN WITNESS WHEREOF, I have hereunto set my hand this thirtieth day of October, in the year of our Lord two thousand one, and of the Independence of the United States of America the two hundred and twenty-sixth.

B

[FR Doc. 01-27717

Filed 11-1-01; 8:45 am]

Billing code 3195-01-P